FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—07/24/2000
20004052 | Liz Claiborne, Inc | The Chase Manhattan Corporation | The Monet Group, Inc.
20004071 | MAN Aktiengesellschaft | Vodafone Air Touch Plc | Mannesmann Pipe & Steel Corporation.
20004075 | Cordiant Communications Group plc | Donino, White & Partners, Inc | Donino, White & Partners, Inc.
TRANSACTIONS GRANTED EARLY TERMINATION—07/25/2000
20003893 | Cardinal Health, Inc | Bergen Brunswig Corporation | Bergen Brunswig Medical Corporation.
20003947 | Waters Corporation | Variagencies, Inc | Variagencies, Inc.
TRANSACTIONS GRANTED EARLY TERMINATION—07/26/2000
20004072 | The Hartford Financial Services Group, Inc | Reliance Group Holdings, Inc | Reliance Group Holdings, Inc.
20004130 | Deutsche Bank AG | NationsRent, Inc | NationsRent, Inc.
20004131 | J.P. Morgan & Co. Incorporated | NationsRent, Inc | NationsRent, Inc.
TRANSACTIONS GRANTED EARLY TERMINATION—07/27/2000
20003861 | Molecular Devices Corporation | LJL BioSystems, Inc | LJL BioSystems, Inc.
20003862 | Lev and Galina Leytes | Molecular Devices Corporation | Molecular Devices Corporation.
20003878 | Global Technologies, Ltd | Litton Industries, Inc | Litton Industries, Inc.
20003889 | Valeo S.A | Robert Bosch Industrietreuhand KG | Robert Bosch GmbH, Zexel Corporation.
20003964 | Cisco Systems, Inc | Pirelli S.p.A | Optical Technologies USA Corp.
20003966 | Richard R. Rogers | Marketing Specialists Corporation | Marketing Specialists Corporation.
20004024 | Applied Digital Solutions, Inc | Computer Equity Corporation | Computer Equity Corporation.
20004033 | Hicks, Muse, Tate & Furst Europe Fund, L.P | Viatel, Inc | Viatel, Inc.
20004039 | Mitel Corporation | Vertex Networks, Incorporated | Vertex Networks, Incorporated.
20004055 | Oak Hill Capital Partners, L.P | IPWireless, Inc | IPWireless, Inc.
20004062 | Northern States Power Company | Den norske stats oljeselskap a.s | First State Power Management, Inc. Statoil Energy Power Generation, Inc.
20004064 | PowerGen plc | LG&E Energy Corp | LG&E Energy Corp.
20004065 | Cox Enterprises, Inc | Robert N. Smith | Smith Acquisition Company.
20004067 | Cox Enterprises, Inc | Hicks, Muse, Tate & Furst Equity Fund III, LP | WJAC, Incorporated.
20004074 | Johnson Controls, Inc | Ikeda Bussan Co., Ltd | Ikeda Bussan Co., Ltd.
20004076 | Unaxis Holding AG | Mr. Karl Nicklaus | ESEC Holding SA.
20004083 | DDi Corp | Cornerstone Equity Investors IV, L.P | Automata International, Inc.
20004084 | Financial Holding Corporation | Fremont General Corporation | Fremont Investment & Loan. Fremont Premier Finance Corporation.
20004085 | El Paso Energy Partners, L.P | El Paso Energy Corporation | Crystal Holdings, Inc.
20004086 | A. Ahlstrom Corporation | Dexter Corporation | Dexter Corporation. Dexter International Corporation. Windsor Locks Canal Company.
20004087 | Old Mutual PLC | United Asset Management Corporation | United Asset Management Corporation.
20004088 | Newmont Mining Corporation | Battle Mountain Gold Company | Battle Mountain Gold Company.
20004091 | Pearson plc | Washington Post Company (The) | Score Learning, Inc.
20004092 | WinsLoew Furniture, Inc | Arnold Bertram | Charter Furniture Corporation.
20004093 | WinsLoew Furniture, Inc | James Pepping | Charter Furniture Corporation.
20004094 | Delta Galil Industries, Ltd | Innerwear Ventures Ltd | Wundies Industries, Inc.
20004095 | Paul G. Allen | iMotors.com, Inc | iMotors.com, Inc.
20004096 | Aether Systems, Inc | Novatel Wireless, Inc | Novatel Wireless, Inc.
20004097 | Cornerstone Equity Investors IV, L.P | Novatel Wireless, Inc | Novatel Wireless, Inc.
20004098 | Plassein Packaging Corporation | Bank of America Corporation | Rex International, Inc.
20004100 | Coventry Health, Inc | Duke University | WellPath Community Health Plans, LLC.
20004102 | Richard L. Duchossois | Anthony Gartland | General Clutch Corp.
20004105 | Crescendo IV, L.P | Telegis Networks, Inc | Telegis Networks, Inc.
20004125 | Industrial Growth Partners, L.P | The Felters Company | The Felters Company.
20004139 | Associated Freezers Income Trust | Patrick A. Gouveia | Atlas Cold Storage Holdings Limited.
20004149 | Vivendi, S.A | Vivendi, S.A | Advanced Environmental Services, LLC.
TRANSACTIONS GRANTED EARLY TERMINATION—07/28/2000
20003268 | Entravision Communications Corporation | Amador S. Bustos | Z-Spanish Media Corporation.
20003894 | Pulitzer Voting Trust | Warburg, Pincus Capital Company, L.P | Warburg, Pincus Capital Company, L.P.
20003938 | Marmon Holdings, Inc | Delta plc | Delta plc.
20003968 | ContiGroup Companies, Inc | The Lundy Package Company | The Lundy Package Company.
20004046 | Reinhard Mohn | Bernard A. Goldhirsh | Goldhirsh Group, Inc.
20004047 | Dick Olson | Agribio Tech, Inc | Agribio Tech, Inc.
20004063 | HMTF Equity Fund IV (1999), L.P | Rhythms NetConnections Inc | Rhythms NetConnections Inc.
20004070 | Cablevision Systems Corporation | Advance Voting Trust | News 12 New Jersey L.L.C.
20004077 | Edward C. Levy, Jr., and Julie Levy | James R. Foley | Michigan Foundation Company, Inc.
20004078 | Edward C. Levy, Jr., and Julie Levy | William J. Foley | Michigan Foundation Company, Inc.
20004080 | Everett R. Dobson Irrevocable Family Trust | Pioneer Telephone Cooperative, Inc | Pioneer Telephone Cooperative, Inc.
20004112 | Horizon Beverage Group, Inc | James L. Abramson | Capital Distributing Company, Inc.
20004114 | The SKM Equity Fund II, L.P | Walter E. Kalberer | WEK Industries, Inc.
20004116 | EQT Scandinavia Limited | CSI Control Systems International, Inc | CSI Control Systems International, Inc.
20004119 | Alon Israel Oil Company, Ltd | Total Fina Elf S.A | American Petrofina Pipe Line Co., Fin-Tex Pipe Line Co.
20004121 | Vitesse Semiconductor Corporation | Koninklijke Philips Electronics N.V | Philips Semiconductor, Inc.
20004123 | Royal Bank of Canada | The Liberty Corporation | The Liberty Corporation.
20004126 | Peter Kiewit Sons', Inc | Fort Calhoun Stone Company | Fort Calhoun Store Company.
20004127 | Unicom Corporation | William N. Neiheiser | Reliance Mechanical Corp.
20004129 | Performance Food Group Company | Carroll County Foods, Inc | Carroll County Foods, Inc.
20004133 | Wisconsin Energy Corporation | Ann Palmer | Park International Corp.
20004137 | Merrill Lynch & Co., Inc | Merck & Co., Inc | MCCO Corporation.
20004156 | William L. Wallace | AutoNation, Inc | Stuart Lincoln-Mercury, Inc.
20004195 | Wells Fargo & Company | First Union Corporation | First Union Mortgage Corporation.
20004199 | EGL, Inc | Circle International Group, Inc | Circle International Group, Inc.
20004208 | Gerald Schwartz | Bull SA | Bull Electronics, Inc.
TRANACTIONS GRANTED EARLY TERMINATION—07/31/2000
20004021 | Texas Instruments Incorporated | Burr-Brown Corporation | Burr-Brown Corporation.
20004056 | David S. Smith | PSI Holding, L.L.C | PSI Holding, L.L.C.
20004115 | Bowater Incorporated | General Electric Company | Newsprint South, Inc.
20004136 | Mine Safety Appliances Company | William T. McCutcheon | Cairns & Brother, Inc.
20004140 | Land O'Lakes, Inc | AgriBioTech, Inc | AgriBioTech, Inc.
20004142 | Media Metrix, Inc | Jupiter Communications, Inc | Jupiter Communications, Inc.
20004143 | Lincolnshire Equity Fund II, L.P | Alan Van Vliet | Unified Precious Metals, Inc.
20004150 | HMTF Bridge Partners, L.P | Vectrix Corporation | Vectrix Corporation.
20004151 | PwC Global Investments B.V | PwC Global Investments B.V | PwCS Holdings, Inc.
20004152 | Lincolnshire Equity Fund II, L.P | Timothy R. Fallon | Fallon Luminous Products Corporation.
20004155 | Roland Siegfried Hinz and Lita Sullivan Hinz | Salem Communications Corporation | Salem Communications Corporation.
20004158 | Microsoft Corporation | Michael S. Edell | eLabor.com, Inc.
20004159 | Thayer Equity Investors IV, L.P | EFTC Corporation | EFTC Corporation.
20004160 | Forstmann Little & Co. Equity Partnership VI | Forstmann Little & Co. Equity Partnership V, L.P | Intelisys Electronic Commerce, Inc.
20004161 | Centennial Fund VI, L.P | Agilera.com, Inc | Agilera.com, Inc.
20004162 | PMC-Sierra, Inc | Quantum Effect Devices, Inc | Quantum Effect Devices, Inc.
20004166 | SCI Systems, Inc | OMX, Inc | OMX, Inc.
20004167 | Marathon Fund Limited Partnership IV | International Utility Structures Inc | IUS Holdings Inc.
20004170 | William Clay Ford | Ford Motor Company | Ford Motor Company.
20004171 | William Clay Ford, Jr. | Ford Motor Company | Ford Motor Company.
20004178 | Forest Laboratories, Inc | Merz + Co. GmbH & Co | Merz + Co. GmbH & Co.
20004251 | Ford Motor Company | Paul Bailey | Paul Bailey's Ford, Inc.
TRANACTIONS GRANTED EARLY TERMINATION—08/01/2000
20001126 | Allied Waste Industries, Inc | Waste Management, Inc | Cocopah Landfill, Inc. Copper Mountain Landfill, Inc. Local Sanitation of Rowan County, LLC. TransAmerican Waste Industries, Inc. USA Waste of Kentucky, LLC. Waste Management of Kansas, Inc. Waste Management of Mississippi, Inc. Waste Management of Missouri, Inc. Waste Management of Ohio, Inc. Waste Management of South Carolina, Inc. Waste Management of Kentucky, LLC.
20004172 | Edsel B. Ford, II | Ford Motor Company | Ford Motor Company.
20004177 | Allianz Aktiengesellschaft | E.ON Aktiengesellschaft | Schmalbach-Lubeca Aktiengesellschaft.
20004180 | Swisslog Holding AG | Kewill Systems Plc | Kewill Logistics, Inc.
20004182 | Cortec Group Fund III, L.P | Axia Group, Inc | Axia Group, Inc.
20004183 | Reliance Steel & Aluminum Co | United Alloys, Inc | United Alloys, Inc.
20004186 | Kleiner Perkins Caufield & Byers IX-A, L.P | Auto Trader.com, Inc | Auto Trader.com, Inc.
20004187 | Cox Enterprises, Inc | Auto Trader.com, Inc | Auto Trader.com, Inc.
20004192 | Schering-Plough Corporation | Novartis AG | Novartis Pharmaceuticals Corporation.
20004198 | Worldwide Sports & Recreation, Inc | Serengeti Eyewear, Inc | Serengeti Eyewear, Inc.
20004200 | The Interpublic Group of Companies, Inc | The Interpublic Group of Companies, Inc | Goldberg Moser O'Neill LLC.
20004202 | Warburg, Pincus, Equity Partners, L.P | Dime Bancorp, Inc | Dime Bancorp, Inc.
TRANSACTIONS GRANTED EARLY TERMINATION—08/02/2000
20004006 | Sempra Energy | Conectiv | Atlantic-Pacific Las Vegas, L.L.C.
20004050 | USA Digital Radio, Inc | Lucent Technologies, Inc | Lucent Digital Radio.
20004051 | Lucent Technologies, Inc | USA Digital Radio, Inc | USA Digital Radio, Inc.
20004107 | Morgan Stanley Dean Witter Venture Partners IV, L.P | eOnline, Inc | eOnline, Inc.
20004134 | Health Care Service Corporation, a Mutual Legal Reserve Co | MetLife, Inc | GenAm Benefits Insurance Company.
20004157 | Baker Communications Fund II (QP), LP | Broadview Networks Holdings, Inc | Broadview Networks Holdings, Inc.
20004173 | Wells Fargo & Company | First Security Corporation | First Security Corporation.
20004179 | Deutsche Bank AG | Vivendi S.A | Clean Room Technologies, Inc. FTS Systems, Inc. Reinhold Faeth GmbH. The Kinetics Group, Inc. W.H.E. Biosystems.
20004185 | General Electric Company | The Laughton Estate Trust | Columbia Communications Corporation.
20004188 | Landmark Communications, Inc | Auto Trader.com, Inc | Auto Trader.com, Inc.
20004189 | Automatic Data Processing, Inc | Auto Trader.com, Inc | Auto Trader.com, Inc.
20004197 | John Rutledge Partners II, L.P | The Crom Corporation | The Crom Corporation.
20004207 | CMGI, Inc | Industria Solutions, Inc | Industria Solutions, Inc.
20004209 | HSBC Holdings plc | BBA Group plc | BBA Friction, Inc.
20004214 | Clear Channel Communications, Inc | Triumph Taxi Outdoor, LLC | Triumph Taxi Advertising, LLC.
20004216 | UMECO plc | M.A. Hanna Company | RA Products, Inc.
20004217 | Providence Equity Partners, III, LP | Great Hill Equity Partners, L.P | ManagedStorage International, Inc.
20004219 | John H. Harland Company | Concentrex Incorporated | Concentrex Incorporated.
20004220 | Silver Lake Partners, L.P | Cabletron Systems, Inc | Cabletron Systems, Inc.
20004233 | SR. Teleperformance | Joanne Russell | Universal Teleservices Arizona; Universal Teleservices F. Corp.
20004241 | Fremont Partners, L.P | Resun Leasing, Inc | Resun Leasing, Inc.
TRANSACTIONS GRANTED EARLY TERMINATION—08/04/2000
20004049 | Celgene Corporation | Signal Pharmaceuticals, Inc | Signal Pharmaceuticals, Inc.
20004060 | Crosspoint Venture Partners 1997, L.P | Covad Communications Group, Inc | Covad Communications Group, Inc.
20004061 | Crosspoint Venture Partners L.S. 1999 L.P | Covad Communications Group, Inc | Covad Communications Group, Inc.
20004113 | Irish Dairy Board Co-operative, Ltd | Frederick R. Charley | Eurobest Foods Corporation.
20004117 | Nestle S.A | Bayer AG | Bayer AG.
20004174 | Suez Lyonnaise des Eaux | Cabot Corporation | Cabot LNG Business Trust.
20004191 | Datatec Limited | Jack Friedman | CAA Technologies, Inc.
20004203 | Andrew J. McKelvey | Affiliated Computer Services, Inc | ACS Technology Solutions, Inc.
20004211 | APAX Excelsior VI, LP | Life Time Fitness, Inc | Life Time Fitness, Inc.
20004215 | ING Groep N.V | ReliaStar Financial Corp | ReliaStar Financial Corp.
20004226 | Digital Island, Inc | SoftAware, Inc | SoftAware, Inc.
20004230 | Proha Plc | Alec E. Gores | Artemis Acquisition Corporation.
20004236 | WellPoint Health Networks Inc | Cerulean Companies, Inc | Cerulean Companies, Inc.
20004237 | Ronald E. Huber | Cecil Van Tuyl | Huber Chevrolet Co., Inc.
20004238 | Cecil Van Tuyl | Van-Huber, Inc | Van-Huber, Inc., Courtesy Chevrolet-Cadillac, Inc.
20004245 | MTD Products Inc | Robert Simpson | A.G. Simpson (Tennessee) Inc.
20004246 | Avnet, Inc. | Cadence Design Systems, Inc | SpinCircuit Inc.
20004247 | Clark/Bardes Holdings, Inc | William L. MacDonald, Sr | Compensation Resource Group, Inc.
20004263 | IDT Corporation | Adir Technologies, Inc | Adir Technologies, Inc.
20004265 | Aurora Equity Partners II, L.P | Dynacast International Limited | SPM Holdings Ltd.; Precision Engineering Co.
20004268 | Wilmar Industries, Inc | Barnett Inc | Barnett Inc.
20004272 | Enron Corp | Media General, Inc | Media General, Inc.
20004273 | Telefonica S.A. | Lycos, Inc | Lycos, Inc.
20004275 AXA | AXA | Focus Technologies, Inc | Focus Technologies, Inc.
20004276 | Three Cities Fund III L.P | Business Resource Group | Business Resource Group.
20004307 | WPP Group plc | Electronic Data Systems Corporation | Electronic Data Systems Corporation. Lacek Systems and Software, Inc. The Lacek Group, Inc.

FOR FURTHER INFORMATION CONTACT: Sandra M. Peay or Parcellena P. Fielding, Contact Representatives, Federal Trade Commission, Premerger Notification Office, Bureau of Competition, Room 303, Washington, DC 20580, (202) 326-3100.

By direction of the Commission.
Donald S. Clark,
Secretary.

[FR Doc. 00-21187 Filed 8-18-00; 8:45 am]

BILLING CODE 6750-01-M